SUSQUEHANNA RIVER BASIN COMMISSION

Commission Meeting

AGENCY: Susquehanna River Basin Commission.

ACTION: Notice.

SUMMARY: The Susquehanna River Basin Commission will conduct its regular business meeting on June 13, 2024 in Harrisburg, Pennsylvania. Details concerning the matters to be addressed at the business meeting are contained in the Supplementary Information section of this notice. Also the Commission published a document in the Federal Register on April 9, 2024, concerning its public hearing on May 2, 2024, in Harrisburg, Pennsylvania.

DATES: The meeting will be held on Thursday, June 13, 2024, at 9 a.m.

ADDRESSES: This public meeting will be conducted in person and digitally from the Susquehanna River Basin Commission,4423 N Front Street, Harrisburg, Pennsylvania.

FOR FURTHER INFORMATION CONTACT: Jason E. Oyler, General Counsel and Secretary to the Commission, telephone: 717-238-0423; fax: 717-238-2436.

SUPPLEMENTARY INFORMATION: The business meeting will include actions or presentations on the following items: (1) election of Commission officers for FY2025; (2) reconciliation of FY 2025 budget; (3) approval of contracts, grants and agreements; (4) action on proposed rulemaking for agency procurement, bid protest procedures and other changes to part 801, and a draft policy entitled “SRBC Procurement Procedures”; (5) adoption of the proposed 2025-2027 Water Resources Program; and (6) actions on 19 regulatory program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person at the Susquehanna River Basin Commission, 4423 N Front Street, Harrisburg, Pennsylvania and digitally. The public is invited to attend the Commission's business meeting. You can access the Business Meeting remotely via Zoom: https://us02web.zoom.us/j/89292000071?pwd=S1E2Qi9QNHUyTkhjY3ZoRUJJeXpqUT09 Meeting ID 892 9200 0071; Passcode: SRBC4423! or via telephone: 305-224-1968 or 309-205-3325; Meeting ID 892 9200 0071.

Written comments pertaining to items on the agenda at the business meeting may be mailed to the Susquehanna River Basin Commission, 4423 North Front Street, Harrisburg, Pennsylvania 17110-1788, or submitted electronically at the link Business Meeting Comments. The draft rulemaking and policy can be viewed on the Commission's website at https://www.srbc.gov/meeting-comment/default.aspx?type=19&cat=43. Comments are due to the Commission for all items on the business meeting agenda on or before June 10, 2024. Comments will not be accepted at the business meeting noticed herein.

Authority: Pub. L. 91-575, 84 Stat. 1509 et seq., 18 CFR parts 806, 807, and 808.

Dated: May 9, 2024.
Jason E. Oyler,
General Counsel and Secretary to the Commission.

[FR Doc. 2024-10520 Filed 5-13-24; 8:45 am]

BILLING CODE 7040-01-P